DEPARTMENT OF COMMERCE

Foreign-Trade Zones Board

[B-52-2022]

Foreign-Trade Zone 64—Jacksonville, Florida, Application for Reorganization (Expansion of Service Area) Under Alternative Site Framework

An application has been submitted to the Foreign-Trade Zones (FTZ) Board by the Jacksonville Port Authority, grantee of Foreign-Trade Zone 64, requesting authority to reorganize the zone to expand its service area under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the FTZ Board (15 CFR part 400). It was formally docketed on November 15, 2022.

FTZ 64 was approved by the FTZ Board on December 29, 1980 (Board Order 170, 46 FR 1330, January 6, 1981) and reorganized under the ASF on May 6, 2011 (Board Order 1759, 76 FR 28418, May 17, 2011). The ASF service area was expanded on July 5, 2012 (Board Order 1840, 77 FR 41374, July 13, 2012) and on March 15, 2019 (Board Order 2080, 84 FR 10298, March 20, 2019). The zone currently has a service area that includes Baker, Bradford, Clay, Columbia, Duval, Flagler, Nassau, Putnam and St. Johns Counties, Florida.

The applicant is now requesting authority to expand the service area of the zone to include a portion of Alachua County, Florida, as described in the application. If approved, the grantee would be able to serve sites throughout the expanded service area based on companies' needs for FTZ designation. The application indicates that the proposed expanded service area is adjacent to the Jacksonville, Florida U.S. Customs and Border Protection Port of Entry.

In accordance with the FTZ Board's regulations, Christopher Kemp of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is January 20, 2023. Rebuttal comments in response to material submitted during the foregoing period may be submitted during the subsequent 15-day period to February 6, 2023.

A copy of the application will be available for public inspection in the “Online FTZ Information Section” section of the FTZ Board's website, which is accessible via www.trade.gov/ftz. For further information, contact Christopher Kemp at Christopher.Kemp@trade.gov.

Dated: November 15, 2022.
Andrew McGilvray,
Executive Secretary.

[FR Doc. 2022-25269 Filed 11-18-22; 8:45 am]

BILLING CODE 3510-DS-P